DEPARTMENT OF HOMELAND SECURITY

6 CFR Chapter I

8 CFR Chapter I

19 CFR Chapter I

33 CFR Chapter I

44 CFR Chapter I

46 CFR Chapters I and III

49 CFR Chapter XII

[Docket No. DHS-2011-0015]

Preliminary Plan for Retrospective Review of Existing Regulations

AGENCY: Office of the General Counsel, DHS.

ACTION: Notice of availability; request for comments.

SUMMARY: The Department of Homeland Security (DHS) announces the availability of its Preliminary Plan for Retrospective Review of Existing Regulations (Preliminary Plan). Pursuant to Executive Order 13563, “Improving Regulation and Regulatory Review,” which the President issued on January 18, 2011, DHS developed its Preliminary Plan to facilitate the review of existing DHS regulations through the use of retrospective review. DHS is seeking public comment on its Preliminary Plan.

DATES: Written comments are requested on or before June 25, 2011. Late-filed comments will be considered to the extent practicable.

ADDRESSES: You may submit comments, identified by docket number DHS-2011-0015, through the Federal eRulemaking Portal: http://www.regulations.gov. Follow the instructions for submitting comments.

FOR FURTHER INFORMATION CONTACT: Christina E. McDonald, Acting Associate General Counsel for Regulatory Affairs, U.S. Department of Homeland Security, Office of the General Counsel. E-mail: Regulatory.Review@dhs.gov.

SUPPLEMENTARY INFORMATION:

I. Public Participation

Interested persons are invited to comment on this notice by submitting written data, views, or arguments using the method identified in the ADDRESSES section.

Instructions: All submissions must include the agency name and docket number for this notice. All comments received will be posted without change to http://www.regulations.gov.

Docket: For access to the docket to read background documents or comments received, go to http://www.regulations.gov.

II. Background

On January 18, 2011, the President issued Executive Order 13563, “Improving Regulation and Regulatory Review,” to ensure that Federal regulations seek more affordable, less intrusive means to achieve policy goals and that agencies give careful consideration to the benefits and costs of those regulations. 76 FR 3821. The Executive Order requires each Executive Branch agency to develop a preliminary plan to periodically review its existing regulations to determine whether any regulations should be modified, streamlined, expanded, or repealed so as to make the agency's regulatory program more effective or less burdensome in achieving its regulatory objectives.

DHS's approach to conducting retrospective review focuses on public openness and transparency and on the critical role of public input in conducting retrospective review. To that end, DHS published a notice and request for comments in the Federal Register on March 14, 2011, “Reducing Regulatory Burden; Retrospective Review Under Executive Order 13563.” 76 FR 13526. In that notice, DHS solicited public input on how DHS should structure its retrospective review and which DHS rules would benefit from retrospective review. In addition, DHS launched an IdeaScale Web page; this social media tool provided an additional means for DHS to solicit input from the public, and more importantly, to foster dialogue among members of the public.

DHS has incorporated the public input in developing its Preliminary Plan. The Preliminary Plan establishes a process for identifying regulations that may be obsolete, unnecessary, unjustified, excessively burdensome, or counterproductive. The DHS retrospective review process will help identify rules that warrant repeal or modification, or strengthening, complementing, or modernizing, where necessary or appropriate. The DHS Preliminary Plan is available for viewing online at http://www.dhs.gov/xabout/open-government.shtm and http://www.regulations.gov. We welcome public comment on its content.

Ivan K. Fong,
General Counsel.

[FR Doc. 2011-13801 Filed 6-3-11; 8:45 am]

BILLING CODE 9110-9B-P